DEPARTMENT OF TRANSPORTATION

Federal Aviation Administration

14 CFR Part 39

[Docket No. FAA-2015-1936; Directorate Identifier 2014-SW-005-AD; Amendment 39-18170; AD 2015-11-07]

RIN 2120-AA64

Airworthiness Directives; Agusta S.p.A. Helicopters

AGENCY: Federal Aviation Administration (FAA), Department of Transportation (DOT).

ACTION: Final rule; request for comments.

SUMMARY: We are adopting a new airworthiness directive (AD) for certain Agusta S.p.A. Model AB412 and AB412 EP helicopters. This AD requires inspecting the tail rotor (T/R) drive shaft flanged adapter (adapter) for a crack and removing the adapter from service if there is a crack. This AD is prompted by a report of a crack found in an adapter. These actions are intended to detect a crack in the adapter and prevent failure of the T/R drive shaft, which could result in reduced control of the helicopter.

DATES: This AD becomes effective June 24, 2015.

The Director of the Federal Register approved the incorporation by reference of a certain document listed in this AD as of June 24, 2015.

We must receive comments on this AD by August 10, 2015.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this AD, the European Aviation Safety Agency (EASA) Emergency AD (EAD), any incorporated by reference service information, any comments received, and other information. The street address for the Docket Operations Office (telephone 800- 647-5527) is in the ADDRESSES section. Comments will be available in the AD docket shortly after receipt.

For service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins. You may review the referenced service information at the FAA, Office of the Regional Counsel, Southwest Region, 2601 Meacham Blvd., Room 663, Fort Worth, Texas 76137. It is also available on the Internet at http://www.regulations.gov in Docket No. FAA-2015-1936.

FOR FURTHER INFORMATION CONTACT: Robert Grant, Aviation Safety Engineer, Safety Management Group, FAA, 2601 Meacham Blvd., Fort Worth, Texas 76137; telephone (817) 222-5110; email robert.grant@faa.gov.

SUPPLEMENTARY INFORMATION:

Comments Invited

This AD is a final rule that involves requirements affecting flight safety, and we did not provide you with notice and an opportunity to provide your comments prior to it becoming effective. However, we invite you to participate in this rulemaking by submitting written comments, data, or views. We also invite comments relating to the economic, environmental, energy, or federalism impacts that resulted from adopting this AD. The most helpful comments reference a specific portion of the AD, explain the reason for any recommended change, and include supporting data. To ensure the docket does not contain duplicate comments, commenters should send only one copy of written comments, or if comments are filed electronically, commenters should submit them only one time. We will file in the docket all comments that we receive, as well as a report summarizing each substantive public contact with FAA personnel concerning this rulemaking during the comment period. We will consider all the comments we receive and may conduct additional rulemaking based on those comments.

Discussion

This AD action was prompted by EAD No. 2014-0040-E, dated February 19, 2014, issued by EASA, which is the Technical Agent for the Member States of the European Union, to correct an unsafe condition for certain AgustaWestland S.p.A. Model AB 412 and AB 412 EP helicopters. EASA advises that a crack was found in an adapter, part number (P/N) 412-040-622-101, installed on a Model AB 412 EP helicopter. EASA further advises that the condition, if not detected and corrected, could lead to T/R drive shaft failure, possibly resulting in reduced control of the helicopter. To address this unsafe condition, the EASA EAD requires repetitive inspections of adapters, P/N 412-040-622-101 and P/N 412-040-623-101, for a crack and replacing a cracked adapter. EASA also requires reporting and sending the cracked adapter to AgustaWestland for investigation.

FAA's Determination

These helicopters have been approved by the aviation authority of Italy and are approved for operation in the United States. Pursuant to our bilateral agreement with Italy, the EASA, its technical representative, has notified us of the unsafe condition described in the EASA AD. We are issuing this AD because we evaluated all information provided by the EASA and determined the unsafe condition exists and is likely to exist or develop on other helicopters of these same type designs.

Related Service Information Under 1 CFR Part 51

AgustaWestland issued Bollettino Tecnico No. 412-139, dated February 19, 2014 (BT), for Model AB412 helicopters serial number (S/N) 25801 through 25900, and Model AB412EP helicopters S/N 25901 and subsequent. The BT states AgustaWestland received a report of a crack in an adapter, P/N 412-040-622-101, installed on a Model AB412EP helicopter. The BT also states that the investigation to determine the root causes of the crack is in progress and the BT may be revised according to the investigation results. The BT specifies a one-time inspection of the adapter, P/N 412-040-622-101 and P/N 412-040-623-101, for the presence of cracks, and if there is a crack, replacing the drive shaft assembly. The BT also specifies reporting a cracked adapter and sending affected parts to AgustaWestland. This service information is reasonably available because the interested parties have access to it through their normal course of business or by the means identified in the ADDRESSES section of this AD.

AD Requirements

This AD requires an initial and recurring visual inspection of the adapter, P/N 412-040-622-101 and P/N 412-040-623-101, installed on certain Model AB412 and AB412 EP helicopters. If there is a crack in an adapter, this AD requires removing the adapter from service before further flight. This AD also requires visually inspecting an adapter before installation.

Differences Between This AD and the EASA EAD

The EASA EAD requires reporting and sending any cracked adapter to AgustaWestland, whereas this AD does not.

Interim Action

We consider this AD to be an interim action. If final action is later identified, we might consider further rulemaking then.

Costs of Compliance

There are no costs of compliance with this AD because there are no helicopters with this type certificate on the U.S. Registry.

FAA's Justification and Determination of the Effective Date

There are no helicopters with this type certificate on the U.S. Registry. Therefore, we believe it is unlikely that we will receive any adverse comments or useful information about this AD from U.S. Operators.

Since an unsafe condition exists that requires the immediate adoption of this AD, we determined that notice and opportunity for public comment before issuing this AD are unnecessary because there are none of these helicopters on the U.S. Registry and that good cause exists for making this amendment effective in less than 30 days.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national Government and the States, or on the distribution of power and responsibilities among the various levels of government.

For the reasons discussed, I certify that this AD:

1. Is not a “significant regulatory action” under Executive Order 12866;

2. Is not a “significant rule” under DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2015-11-07 Agusta S.p.A.: Amendment 39-18170; Docket No. FAA-2015-1936; Directorate Identifier 2014-SW-005-AD.

(a) Applicability

This AD applies to Model AB412 helicopters with a serial number (S/N) 25801 through 25900, and Model AB412 EP helicopters with a S/N 25901 and larger, certificated in any category.

(b) Unsafe Condition

This AD defines the unsafe condition as a crack in a tail rotor (T/R) drive shaft flanged adapter. This condition could result in failure of the T/R drive shaft and reduced control of the helicopter.

(c) Effective Date

This AD becomes effective June 24, 2015.

(d) Compliance

You are responsible for performing each action required by this AD within the specified compliance time unless it has already been accomplished prior to that time.

(e) Required Actions

(1) Within 5 hours time-in-service (TIS) and thereafter at intervals not to exceed 100 hours TIS, using a 5X power magnifying glass and a light source, visually inspect each flanged adapter, part number (P/N) 412-040-622-101 and P/N 412-040-623-101, for a crack as shown in Figures 1 and 2 of AgustaWestland Bollettino Tecnico No. 412-139, dated February 19, 2014.

(2) If there is a crack in a flanged adapter, before further flight, remove the flanged adapter from service.

(3) Do not install a flanged adapter, P/N 412-040-622-101 or P/N 412-040-623-101, unless it has been inspected in accordance with the requirements of paragraphs (e)(1) and (e)(2) of this AD.

(f) Special Flight Permits

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone (817) 222-5110; email robert.grant@faa.gov.

(2) For operations conducted under a 14 CFR part 119 operating certificate or under 14 CFR part 91, subpart K, we suggest that you notify your principal inspector, or lacking a principal inspector, the manager of the local flight standards district office or certificate holding district office, before operating any aircraft complying with this AD through an AMOC.

(h) Additional Information

The subject of this AD is addressed in European Aviation Safety Agency (EASA) Emergency AD (EAD) No. 2014-0040-E, dated February 19, 2014. You may view the EASA EAD on the Internet at http://www.regulations.gov in Docket No. FAA-2015-1936.

(i) Subject

Joint Aircraft Service Component (JASC) Code: 6510, Tail Rotor Drive Shaft.

(j) Material Incorporated by Reference

(1) The Director of the Federal Register approved the incorporation by reference of the service information listed in this paragraph under 5 U.S.C. 552(a) and 1 CFR part 51.

(2) You must use this service information as applicable to do the actions required by this AD, unless the AD specifies otherwise.

(i) AgustaWestland Bollettino Tecnico No. 412-139, dated February 19, 2014.

(ii) Reserved.

(3) For AgustaWestland service information identified in this AD, contact AgustaWestland, Product Support Engineering, Via del Gregge, 100, 21015 Lonate Pozzolo (VA) Italy, ATTN: Maurizio D'Angelo; telephone 39-0331-664757; fax 39-0331-664680; or at http://www.agustawestland.com/technical-bulletins.

(4) You may view this service information at FAA, Office of the Regional Counsel, Southwest Region, 2601 Meacham Blvd., Room 663, Fort Worth, Texas 76137. For information on the availability of this material at the FAA, call (817) 222-5110.

(5) You may view this service information that is incorporated by reference at the National Archives and Records Administration (NARA). For information on the availability of this material at NARA, call (202) 741-6030, or go to: http://www.archives.gov/federal-register/cfr/ibr-locations.html.

Issued in Fort Worth, Texas, on May 26, 2015.
Lance T. Gant,
Acting Directorate Manager, Rotorcraft Directorate, Aircraft Certification Service.

[FR Doc. 2015-13343 Filed 6-8-15; 8:45 am]

BILLING CODE 4910-13-P